DEPARTMENT OF TRANSPORTATION

Federal Railroad Administration

Petition for Waiver of Compliance

In accordance with part 211 of title 49 Code of Federal Regulations (CFR), notice is hereby given that the Federal Railroad Administration (FRA) received a request for a waiver of compliance with a provision of the Federal hours of service laws (108 Stat. 888, Pub. L. 103-272, 49 U.S.C. 21106). The Federal hours of service laws currently make it unlawful for a railroad to construct or reconstruct sleeping quarters for certain employees if the sleeping quarters are in an area or in the immediate vicinity of an area as determined under regulations prescribed by the Secretary of Transportation in which railroad switching or humping operations are performed. See 49 U.S.C. 21101 and 21106. Title 49 CFR part 228, subpart C, defines FRA's distance requirements for construction, reconstruction, and/or acquisition of sleeping quarters.

Burlington Northern Santa Fe Railway Company (BNSF)

[Waiver Petition Docket No. FRA-1999-5107]

BNSF petitions for approval to utilize a facility to be constructed, owned, and operated by a third party which will be located within one-half mile of railroad switching operations at Thayer, Missouri. See 49 CFR 228.103. BNSF states that the planned structure will be a commercial lodging facility that is open to the general public. BNSF proposes to enter into a lodging contract with the new facility owner to guarantee room availability for its train and engine crews operating in and out of Thayer. Crews are presently housed at a motel in White Plains, Missouri, approximately 27 miles from Thayer. The petitioner indicates that granting the exemption will not adversely affect safety.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-5107) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's web site at http://dms.dot.gov.

Issued in Washington, D.C. on May 25, 2000.
Grady C. Cothen, Jr.,
Deputy Associate Administrator for Safety Standards and Program Development.

[FR Doc. 00-14049 Filed 6-5-00; 8:45 am]

BILLING CODE 4910-06-P